DEPARTMENT OF ENERGY

Federal Energy Regulatory Commission

Combined Notice of Filings #2

Take notice that the Commission received the following electric corporate filings:

Docket Numbers: EC17-28-000.

Applicants: Innovative Solar 43, LLC, Innovative Owner 43, LLC.

Description: Application for Authorization Under Section 203 of the Federal Power Act, et al. Innovative Solar 43, LLC, et al.

Filed Date: 11/7/16.

Accession Number: 20161107-5197.

Comments Due: 5 p.m. ET 11/28/16.

Take notice that the Commission received the following electric rate filings:

Docket Numbers: ER16-1827-000.

Applicants: GenOn Energy Management, LLC.

Description: Report Filing: Refund Report, Informational Filing to be effective N/A.

Filed Date: 11/7/16.

Accession Number: 20161107-5098.

Comments Due: 5 p.m. ET 11/28/16.

Docket Numbers: ER16-1955-001.

Applicants: Antelope DSR 2, LLC.

Description: Compliance filing: Antelope DSR 2, LLC MBR Tariff to be effective 6/18/2016.

Filed Date: 11/7/16.

Accession Number: 20161107-5106.

Comments Due: 5 p.m. ET 11/28/16.

Docket Numbers: ER16-2194-001.

Applicants: Clinton Battery Utility, LLC.

Description: Compliance filing: Clinton Battery Utility Revised Tariff to be effective 11/8/2016.

Filed Date: 11/7/16.

Accession Number: 20161107-5143.

Comments Due: 5 p.m. ET 11/28/16.

Docket Numbers: ER16-2363-001.

Applicants: Bluestem Wind Energy, LLC.

Description: Compliance filing: Bluestem Wind Energy MBR Tariff Update to be effective 11/8/2016.

Filed Date: 11/7/16.

Accession Number: 20161107-5140.

Comments Due: 5 p.m. ET 11/28/16.

Docket Numbers: ER16-2602-001.

Applicants: 4C Acquisition, LLC.

Description: Tariff Amendment: Supplement to Application for Market-Based Rate Authorization of 4C Acquisition to be effective 11/17/2016.

Filed Date: 11/2/16.

Accession Number: 20161102-5142.

Comments Due: 5 p.m. ET 11/14/16.

Docket Numbers: ER16-2708-001.

Applicants: Exelon West Medway II, LLC.

Description: Compliance filing: Exelon West Medway II LLC Revised Tariff to be effective 11/8/2016.

Filed Date: 11/7/16.

Accession Number: 20161107-5139.

Comments Due: 5 p.m. ET 11/28/16.

Docket Numbers: ER17-3-001.

Applicants: ESS Lewes Project, LLC.

Description: Tariff Amendment: Amendment to 1 to be effective12/2/2016.

Filed Date: 11/7/16.

Accession Number: 20161107-5208.

Comments Due: 5 p.m. ET 11/28/16.

Docket Numbers: ER17-94-001.

Applicants: ESS Snook Project, LLC.

Description: Tariff Amendment: Amendment to 1 to be effective12/13/2016.

Filed Date: 11/7/16.

Accession Number: 20161107-5205.

Comments Due: 5 p.m. ET 11/28/16.

Docket Numbers: ER17-313-000.

Applicants: AEP Texas Central Company.

Description: § 205(d) Rate Filing: TCC-Patriot Wind Farm Second Amend & Restated IA to be effective 10/13/2016.

Filed Date: 11/7/16.

Accession Number: 20161107-5149.

Comments Due: 5 p.m. ET 11/28/16.

Docket Numbers: ER17-314-000.

Applicants: PJM Interconnection, L.L.C.

Description: § 205(d) Rate Filing: Amendment to ISA SA No. 3333; Queue No. W3-003 to be effective 6/24/2014.

Filed Date: 11/7/16.

Accession Number: 20161107-5154.

Comments Due: 5 p.m. ET 11/28/16.

Take notice that the Commission received the following PURPA 210(m)(3) filings:

Docket Numbers: QM17-2-000.

Applicants: East Kentucky Power Cooperative, Inc.

Description: Application of East Kentucky Power Cooperative, Inc. for the termination of the obligation to purchase power from qualifying facilities.

Filed Date: 11/4/16.

Accession Number: 20161104-5214.

Comments Due: 5 p.m. ET 12/2/16.

Take notice that the Commission received the following electric reliability filings

Docket Numbers: RD16-6-001.

Applicants: North American Electric Reliability Corporation.

Description: Revisions of the North American Electric Reliability Corporation to the Violations Risk Factors for Reliability Standards IRO-018-1 and TOP-010-1.

Filed Date: 11/7/16.

Accession Number: 20161107-5195.

Comments Due: 5 p.m. ET 12/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2016.
Nathaniel J. Davis, Sr.,
Deputy Secretary.

[FR Doc. 2016-27290 Filed 11-10-16; 8:45 am]

BILLING CODE 6717-01-P